INTERNATIONAL TRADE COMMISSION

[Investigation Nos. 701-TA-444-446 (Preliminary) and 731-TA-1107-1109 (Preliminary)]

Coated Free Sheet Paper From China, Indonesia, and Korea

Determinations

On the basis of the record ¹ developed in the subject investigations, the United States International Trade Commission (Commission) determines, pursuant to sections 703(a) and 733(a) of the Tariff Act of 1930 (19 U.S.C. 1671b(a) and 1673b(a)) (the Act), that there is a reasonable indication that an industry in the United States is materially injured by reason of imports from China, Indonesia, or Korea of coated free sheet paper,² provided for in subheadings 4810.13.19, 4810.13.20, 4810.13.50, 4810.13.70, 4810.14.19, 4810.14.20, 4810.14.50, 4810.14.70, 4810.19.19, and 4810.19.20 of the Harmonized Tariff Schedule of the United States, that are alleged to be subsidized or sold in the United States at less than fair value (LTFV).

¹ The record is defined in sec. 207.2(f) of the Commission's Rules of Practice and Procedure (19 CFR 207.2(f)).

² Chairman Daniel R. Pearson dissenting. Commissioner Jennifer A. Hillman did not participate in these investigations.

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On October 31, 2006, a petition was filed with the Commission and Commerce by New Page Corp., Dayton, OH, alleging that an industry in the United States is materially injured or threatened with material injury by reason of subsidized and LTFV imports of coated free sheet paper from China, Indonesia, and Korea. Accordingly, effective October 31, 2006, the Commission instituted countervailing duty investigations Nos. 701-TA-444-446 (Preliminary) and antidumping duty investigations Nos. 731-TA-1107-1109 (Preliminary).

Notice of the institution of the Commission's investigations and of a public conference to be held in connection therewith was given by posting copies of the notice in the Office of the Secretary, U.S. International Trade Commission, Washington, DC, and by publishing the notice in the Federal Register of November 6, 2006 (71 FR 64983). The conference was held in Washington, DC, on November 21, 2006, and all persons who requested the opportunity were permitted to appear in person or by counsel.

The Commission transmitted its determinations in these investigations to the Secretary of Commerce on December 15, 2006. The views of the Commission are contained in USITC Publication 3900 (December 2006), entitled Coated Free Sheet Paper from China, Indonesia, and Korea: Investigation Nos. 701-TA-444-446 (Preliminary) and 731-TA-1107-1109 (Preliminary).

Issued: December 26, 2006.
By order of the Commission.
Marilyn R. Abbott
Secretary to the Commission.

[FR Doc. E6-22419 Filed 12-28-06; 8:45 am]

BILLING CODE 7020-02-P